DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: 2011 Field Test of the Re-Engineered Survey of Income and Program Participation.

OMB Control Number: 0607-0957.

Form Number(s): SIPP 105(L)DR(2011) Director's Letter; SIPP 105(L)(SP)DR(2011) Director's Letter Spanish; SIPP 2011DR106(L); SIPP 2011DR107(L); SIPP/CAPI Automated Instrument.

Type of Request: Reinstatement of an expired collection.

Burden Hours: 5,681.

Number of Respondents: 5,500.

Average Hours per Response: 1 hour.

Needs and Uses: The U.S. Census Bureau requests authorization from the Office of Management and Budget (OMB) to conduct the 2011 Field Test for the Re-engineered Survey of Income and Program Participation (SIPP).

The Census Bureau's SIPP CAPI interview will use an event history calendar (EHC) interviewing method and a 12-month, calendar-year reference period in place of the current SIPP questionnaire approach with a sliding 4-month reference period. The Census Bureau is re-engineering the SIPP to accomplish several goals including improving the collection instrument and processing system, development of the EHC, use of the administrative records data, and increased stakeholder interaction.

The SIPP represents a source of information for a wide variety of separate topics to be integrated to form a single and unified database in order to examine the interaction between tax, transfer, and other government and private policies. Government domestic policy formulators depend heavily upon the SIPP information to determine the effect of tax and transfer programs on the distribution of income received directly as money or indirectly as in-kind benefits. They also need improved and expanded data on the income and general economic and financial situation of the U.S. population. The SIPP has provided these kinds of data on a continuing basis since 1983, by measuring levels of economic well-being and changes in these levels over time.

The main objective of the SIPP has been to provide accurate and comprehensive information about the income and program participation of individuals and households in the United States. The survey's mission is to provide a nationally representative sample for evaluating: (1) Annual and sub-annual income dynamics, (2) movements into and out of government transfer programs, (3) family and social context of individuals and households, and (4) interactions among these items. The re-engineering of SIPP pursues these objectives in the context of several goals—cost reduction and improved accuracy, relevance, timeliness, reduced burden on respondents, and accessibility. The Re-engineered SIPP will collect detailed information on cash and non-cash income (including participation in government transfer programs) one time per year. A major use of the SIPP has been to evaluate the use of and eligibility for government programs and to analyze the impacts of options for modifying them.

A key component of the re-engineering process involves the proposed shift from the every-four-month data collection schedule of traditional SIPP to an annual data collection schedule for the re-engineered survey. To accomplish this shift with minimal impact on data quality, the Census Bureau proposes employing the use of an event history calendar (EHC) to gather SIPP data. The Re-engineered SIPP will interview respondents in one year intervals, collecting data for the previous calendar year as the reference period. The content of the Re-engineered SIPP will combine the content of the 2008 Panel SIPP core as well as selected topical module questions. The Re-engineered SIPP will not contain free-standing topical modules. The EHC will allow recording dates of events and spells of coverage and should provide monthly transitions of program receipt and coverage, labor force transitions, health insurance transitions, and others.

As the SIPP transitions from three interviews per year to one interview per year, new methods need to be tested for how to stay in contact with respondents so they can be located for the following year's interview. Once interviews have been completed for the 2011 SIPP field test, a recontact experiment will take place. The objectives of this experiment are: (1) To test how a combination of change of address cards mailed with or without a small monetary incentive, a newsletter reporting findings from the 2008 SIPP Panel, or no contact between interview periods, effect attrition and the ability to locate respondents in the second wave of interviewing (Type A and Type D wave 2 non-response), and (2) to develop address update procedures which will facilitate locating original sample members who may have moved, and which can be implemented prior to and during the next interview field period.

As part of the recontact experiment we will be mailing out a letter of explanation with the change of address cards. The SIPP-2011DR106(L) will be mailed to a subset of cases with the offer of monetary incentive. The SIPP-2011DR107(L) will be mailed to a subset of cases that will not offer a monetary incentive.

Implementing the EHC methodology in 2011 is intended to help respondents recall information in a more natural “autobiographical” manner by using life events as triggers to recall other economic events. For example, a residence change can in many cases occur contemporaneously with a change in employment. The entire process of compiling the calendar focuses, by its nature, on consistency and sequential order of events, and attempts to correct for otherwise missing data. For example, if the respondents are unemployed, they may then look for a job, and then become employed.

The 2011 Field Test instrument will be evaluated in several domains including field implementation issues and data comparability vis-à-vis the SIPP 2008 Panel and administrative records. Distributional characteristics such as the percent of persons receiving TANF, Food Stamps, Medicare, who are working, who are enrolled in school, or who have health insurance coverage reported in the EHC will be compared to the same distributions from the 2008 SIPP Panel. The primary focus will be to demonstrate to data users that the new instrument yields data for low-income programs that are of sufficient quality. The field test sample is focused in low income areas in order to increase the “hit rate” of households likely to participate in government programs. In general, there are two ways we will evaluate data quality:

(1) We will compare monthly estimates from the field test to estimates from parallel sample areas in the 2008 SIPP panel for characteristics such as participation in Food Stamps, TANF, SSI, WIC, and Medicaid. To the extent those estimates are reasonably aligned with each other, we can assume that data quality is reasonably comparable. Misalignment of the estimates, and especially misalignment in the direction of the EHC estimates being consistently lower than the SIPP estimates, would be worrisome, because it would be suggestive of (not definitive evidence of) reduced data quality in the EHC.

(2) For a small subset of characteristics, and for a subset of sample areas, we will have access to administrative record data. These data will permit a more objective data quality assessment.

Results from both the 2011 Field Test and the 2008 SIPP Panel will be used to inform final decisions regarding the design, content, and implementation of the Re-engineered SIPP for production beginning in 2013.

Affected Public: Individuals or households.

Frequency: One time.

Respondent's Obligation: Voluntary.

Legal Authority: Title 13, United States Code, Section 182.

OMB Desk Officer: Brian Harris-Kojetin, (202) 395-7314.

Copies of the above information collection proposal can be obtained by calling or writing Diana Hynek, Departmental Paperwork Clearance Officer, (202) 482-0266, Department of Commerce, Room 6616, 14th and Constitution Avenue, NW., Washington, DC 20230 (or via the Internet at dhynek@doc.gov).

Written comments and recommendations for the proposed information collection should be sent within 30 days of publication of this notice to Brian Harris-Kojetin, OMB Desk Officer either by fax (202-395-7245) or e-mail (bharrisk@omb.eop.gov).

Dated: September 14, 2010.
Glenna Mickelson,
Management Analyst, Office of the Chief Information Officer.

[FR Doc. 2010-23338 Filed 9-17-10; 8:45 am]

BILLING CODE 3510-07-P